DEPARTMENT OF ENERGY

Federal Energy Regulatory Commission

[Project No. 11834-057]

FPL Energy Maine Hydro, LLC; Notice of Availability of Environmental Assessment

In accordance with the National Environmental Policy Act of 1969, as amended, and Federal Energy Regulatory Commission (Commission or FERC) regulations, 18 CFR part 380 (Order No. 486, 52 FR 47879), the Commission has reviewed a request to replace the spillway at the Upper Dam development, which is part of the Upper and Middle Dam Storage Project (FERC No. 11834). The purpose of the action is to satisfy the Commission's Division of Dam Safety and Inspections required remediation under 18 CFR Part 12. The licensee seeks Commission approval to conduct the spillway replacement. This environmental assessment (EA) analyzes the environmental impacts of the proposed spillway repairs and concludes that approval of the request, with appropriate environmental measures, would not constitute a major federal action significantly affecting the quality of the human environment. The project is located on the outlet from Mooselookmeguntic Lake in Oxford and Franklin Counties, Maine.

The EA was written by staff in the Commission's Office of Energy Projects. A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3372, or for TTY, (202) 502-8659.

Dated: February 15, 2012.
Kimberly D. Bose,
Secretary.

[FR Doc. 2012-4076 Filed 2-21-12; 8:45 am]

BILLING CODE 6717-01-P